DEPARTMENT OF COMMERCE

International Trade Administration

[A-570-848]

Notice of Extension of Time Limit for Final Results of New Shipper Antidumping Review: Freshwater Crawfish Tail Meat From the People's Republic of China

AGENCY: Import Administration, International Trade Administration, Department of Commerce.

EFFECTIVE DATE: November 29, 2001.

FOR FURTHER INFORMATION CONTACT: Matthew Renkey or Mark Hoadley, Import Administration, International Trade Administration, U.S. Department of Commerce, 14th Street and Constitution Avenue, NW., Washington, DC. 20230; telephone: (202) 482-2312 and (202) 482-0666, respectively.

The Applicable Statute

Unless otherwise indicated, all citations to the Tariff Act of 1930, as amended (the Act) are to the provisions effective January 1, 1995, the effective date of the amendments made to the Act by the Uruguay Round Agreements Act. In addition, unless otherwise indicated, all citations to the Department's regulations are to 19 CFR part 351 (2000).

Background

On September 29, 2000, the Department received timely requests for review, in accordance with section 751(a)(2)(B)(ii) of the Act and § 351.214(c) of the Department's regulations, from Coastal (Jiangsu) Foods Co., Ltd. (Coastal), Shouzhou Huaxiang Foodstuffs Co., Ltd. (Shouzhou), and Shanghai Taoen International Trading Co., Ltd. (Shanghai Taoen), to conduct new shipper reviews of the antidumping duty order on freshwater crawfish tail meat from the PRC. On November 6, 2000, the Department published its initiation of these new shipper reviews for the period September 1, 1999 through August 31, 2000. See Freshwater Crawfish Tail Meat From the People's Republic of China: Initiation of New Shipper Antidumping Administrative Reviews, 65 FR 66525 (November 6, 2000).

On March 16, 2001, the Department published an extension of the deadline for completion of the preliminary results of these new shipper reviews until August 27, 2001. See Notice of Extension of Time Limit for Preliminary Results of Antidumping Duty New Shipper Reviews: Freshwater Crawfish Tail Meat from the People's Republic of China, 66 FR 15219 (March 16, 2001). On August 9, 2001, we rescinded the new shipper reviews for Coastal and Shouzhou and extended the period of review (POR) for Shanghai Taoen by one month. See Freshwater Crawfish Tail Meat From the People's Republic of China: Final Rescission of Antidumping Duty New Shipper Reviews, 66 FR 41831 (August 9, 2001). Thus, only the new shipper review of Shanghai Taoen remained. On September 6, 2001, the Department published the preliminary results of this new shipper review. See Notice of Preliminary Results of Antidumping Duty New Shipper Review: Freshwater Crawfish Tail Meat from the People's Republic of China, 66 FR 46602 (September 6, 2001).

Extension of Time Limits for Final Results

Section 353.214(i)(1) of the Department's regulations requires the Department to issue final results within 90 days after the date on which the preliminary results in a new shipper review were issued. However, if the Secretary concludes that a new shipper review is extraordinarily complicated, the Secretary may extend the 90-day period to 150 days under § 351.214(i)(2) of the Department's regulations. The final results for this new shipper review are currently due on November 25, 2001. We find the valuation issues in this review to be extraordinarily complicated, and, therefore, we are unable to complete this review by the scheduled deadline. Therefore, in accordance with § 351.214(i)(2) of the Department's regulations, the Department is extending the time period for issuing the final results of these new shipper reviews by 15 days until December 10, 2001.

This extension is in accordance with section 751(a)(2)(B)(iv) of the Act, as amended, and § 351.214(i)(2) of the Department's regulations.

Dated: November 23, 2001.
Joseph A. Spetrini,
Deputy Assistant Secretary for Import Administration, Group III.

[FR Doc. 01-29671 Filed 11-28-01; 8:45 am]

BILLING CODE 3510-DS-P